DEPARTMENT OF JUSTICE

Antitrust Division

Notice Pursuant to the National Cooperative Research and Production Act of 1993; Defense Sustainment Corporation (“DSC”)

Notice is hereby given that, on August 31, 2000, pursuant to section 6(a) of the National Cooperative Research and Production Act of 1993, 15 U.S.C. 4301 et seq. (“the Act”), the Advanced Technology Institute has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to Section 6(b) of the Act, the identities of the parties are the Advanced Technology Institute, Charleston, SC; Dimensions International, Inc., Washington, DC; Caterpillar, Mossville IL; ERIM, Ann Arbor, MI; Rockwell Collins, Milwaukee, WI; Radian, Washington, DC; AMSEC, Virginia Beach, VA; Sarnoff Corporation, Princeton, NJ; Arthur D. Little, Inc., Cambridge, MA and United Defense, Washington, DC. The nature and objectives of the venture are to substantially reduce the cost of support for aging weapon systems. The DSC will meet this objective by conducting pilot projects that focus on five thrust areas: (1) Effective supply partnerships, (2) streamlining maintenance processes, (3) significant improvement in quality of and access to technical data, (4) effective upgrade strategies, and (5) innovative training for sustainment.

Constance K. Robinson,
Director of Operations, Antitrust Division.

[FR Doc. 00-25719 Filed 10-5-00; 8:45 am]

BILLING CODE 4410-11-M